DEPARTMENT OF JUSTICE

Antitrust Division

Notice Pursuant to the National Cooperative Research and Production Act of 1993—Homeland Security Technology Consortium

Notice is hereby given that, on April 26, 2023, pursuant to Section 6(a) of the National Cooperative Research and Production Act of 1993, 15 U.S.C. 4301 et seq. (“the Act”), Homeland Security Technology Consortium (“HSTech Consortium”) formerly known as (fka) Border Security Technology (“BSTC”) has filed written notifications simultaneously with the Attorney General and the Federal Trade Commission disclosing changes in its membership. The notifications were filed for the purpose of extending the Act's provisions limiting the recovery of antitrust plaintiffs to actual damages under specified circumstances. Specifically, Vectrus Systems Corporation, Colorado Springs, CO; D'Angelo Technologies, Beavercreek, PA; and SensiPass, Inc., Arlington, VA, have been added as parties to this venture.

Also, AirRobot US, Inc., Arlington, VA; Ball Aerospace & Technologies Corp., Arlington, VA; Carolina Unmanned Vehicles, Raleigh, NC; Colvin Run Networks, Inc., Leesburg, VA; Drone Co-Habitation Services LLC, Fairfax, VA; Epigen Technology Corp., McLean, VA; Georgia Tech Applied Research Corp., Atlanta, GA; Global Justice Systems LLC, San Antonio, TX; Gray Zone LLC, Burke, VA; ICF Incorporated LLC, Fairfax, VA; International Electronic Machines Corp., Troy, NY; LiveView Technologies, Orem, UT; nMeta LLC, New Orleans, LA; Old Dominion University Research Foundation, Norfolk, VA; RadiaBeam Technologies, Santa Monica, CA; Redstone Aviation Group LLC, Huntsville, AL; Rhombus Power, Inc., Moffett Field, CA; Secure Planet, Inc., Arlington, VA; Sentrillion Corp., Reston, VA; Shield AI, Inc., San Diego, CA; SNA International LLC, Alexandria, VA; Spatial Integrated Systems, Inc., Virginia Beach, VA; StrongWatch Corp, Tucson, AZ; TerraHawk LLC, Dallas, TX; Ventera, Reston, VA; and XLA Associates, Springfield, VA, have withdrawn as parties to this venture.

No other changes have been made in either the membership or planned activity of the group research project. Membership in this group research project remains open, and HSTech Consortium (fka BSTC) intends to file additional written notifications disclosing all changes in membership.

On May 30, 2012, HSTech Consortium (fka BSTC) filed its original notification pursuant to Section 6(a) of the Act. The Department of Justice published a notice in the Federal Register pursuant to Section 6(b) of the Act on June 18, 2012 (77 FR 36292).

The last notification was filed with the Department on January 26, 2023. A notice was published in the Federal Register pursuant to Section 6(b) of the Act on March 17, 2023 (88 FR 16459).

Suzanne Morris,
Deputy Director, Civil Enforcement Operations, Antitrust Division.

[FR Doc. 2023-12559 Filed 6-12-23; 8:45 am]

BILLING CODE P